DEPARTMENT OF HOMELAND SECURITY

Border and Transportation Security; Meeting of the Data Management Improvement Act of 2000 Task Force

AGENCY: Border and Transportation Security Directorate, DHS

ACTION: Notice of meeting.

Committee meeting: Department of Homeland Security (DHS), Data Management Improvement Act of 2000 (DMIA) Task Force.

Date and Time: Tuesday, September 23, 2003, 9 a.m. to 5 p.m.

Place: Double Tree Hotel, 300 Army Navy Drive, Arlington, VA 22202.

Status: Closed meeting. Notice is hereby given that the Data Management Improvement Act Task Force will meet on Tuesday, September 23, 2003, from 9 a.m. to 5 p.m. All times noted are Eastern Time. The information that will be discussed at this meeting could seriously compromise the security and integrity of existing data collection systems as well as the proposed new entry/exit system and integration. Due to the nature of the issues being discussed, the Department of Homeland Security has determined that the meeting will be closed to the public (Section 10(d) of the Federal Advisory Committee Act (FACA)). The information discussed at this meeting is protected from disclosure under the Government in the sunshine Act, 5 U.S.C. 552b(c)(9)(B). In accordance with the provisions of the Federal Advisory Committee Act, minutes of the meeting will be kept for department and congressional review.

Purpose: The DMIA Task Force is focusing on the development of recommendations directly related to the design and development of an integrated, automated entry and exit system. The Task Force will be discussing, in detail, issues related to United States national security, border security and existing and proposed information technology systems. The discussion will include recommendations on data collection and use, facility and infrastructure issues and information and technology issues. None of this information has been previously disclosed publicly.

Public participation: The meeting is closed to the public, however the Task Force will accept written comments from the public for discussion. Only written comments receive on or before September 16, 2003, will be considered for discussion at the meeting. Written comments may be faxed or e-mailed to the contact persons indicated below.

Contact person: Michael Defensor or Deborah Hemmes, Department of Homeland Security, 425 I Street, NW., Room 7257, Washington, DC 20536; telephone (202) 305-9863; fax: (202) 305-9871; e-mail: michael.defensor@dhs.gov or deborah.hemmes@dhs.gov.

Dated: August 25, 2003.
Asa Hutchinson,
Under Secretary for Border Transportation and Security.

[FR Doc. 03-22431 Filed 9-2-03; 8:45 am]

BILLING CODE 4410-10-M